DEPARTMENT OF THE INTERIOR

Bureau of Indian Affairs

[AAK6006201 210A2100DD AOR3030.999900]

Draft Environmental Impact Statement for Osage County Oil and Gas, Osage County, Oklahoma

AGENCY: Bureau of Indian Affairs, Interior.

ACTION: Notice of availability; extension of comment deadline.

SUMMARY: This notice advises the public that the Bureau of Indian Affairs (BIA) has again extended the deadline for comments on the Osage County Oil and Gas Draft Environmental Impact Statement (DEIS) and announces the final deadline for comments on the DEIS.

DATES: The final, extended deadline for comments on the DEIS is February 21, 2020.

ADDRESSES: Comments on the DEIS may be submitted by any of the following methods:

Email: osagecountyoilandgaseis@bia.gov.

Fax: (918) 287-5700.

Mail or hand delivery: Osage County Oil and Gas EIS, BIA Osage Agency, Attn: Superintendent, P.O. Box 1539, Pawhuska, OK 74056.

The DEIS may be examined at the BIA Osage Agency, 813 Grandview Avenue, Pawhuska, Oklahoma. The DEIS is also available for review online on the project website: https://www.bia.gov/regional-offices/eastern-oklahoma/osage-agency/osage-oil-and-gas-eis.

FOR FURTHER INFORMATION CONTACT: Mr. Mosby Halterman, Supervisory Environmental Specialist, telephone: 918-781-4660; email: mosby.halterman@bia.gov; address: BIA Eastern Oklahoma Regional Office, PO Box 8002, Muskogee, OK 74402.

SUPPLEMENTARY INFORMATION: On November 22, 2019, BIA published a notice of availability of the DEIS and requested comments by January 6, 2020 (i.e., 45 days following the date the EPA published its “Notice of Availability” in the Federal Register). See 84 FR 64556. On December 27, 2019, BIA published a notice extending the deadline for comments on the DEIS to January 22, 2020. See 84 FR 71450. The BIA has since received numerous requests for an additional extension and, in response to those requests, now extends the deadline to the date listed in the DATES section of this notice. The date listed in the DATES section of this notice is the final deadline for comments on the DEIS; no additional extensions will be granted.

Dated: January 23, 2020.
Tara Sweeney,
Assistant Secretary—Indian Affairs.

[FR Doc. 2020-02619 Filed 2-7-20; 8:45 am]

BILLING CODE 4337-15-P